ENVIRONMENTAL PROTECTION AGENCY

40 CFR Part 52

[DC103-2051; FRL-8775-3]

Approval and Promulgation of Air Quality Implementation Plans; District of Columbia; Update to Materials Incorporated by Reference

AGENCY: Environmental Protection Agency (EPA).

ACTION: Final rule; Notice of administrative change.

SUMMARY: EPA is updating the materials submitted by the District of Columbia that are incorporated by reference (IBR) into the State implementation plan (SIP). The regulations affected by this update have been previously submitted by the District of Columbia Department of the Environment and approved by EPA. This update affects the SIP materials that are available for public inspection at the National Archives and Records Administration (NARA), the Air and Radiation Docket and Information Center located at EPA Headquarters in Washington, DC, and the EPA Regional Office.

DATES: Effective Date: This action is effective March 19, 2009.

ADDRESSES: SIP materials which are incorporated by reference into 40 CFR part 52 are available for inspection at the following locations: Air Protection Division, U.S. Environmental Protection Agency, Region III, 1650 Arch Street, Philadelphia, Pennsylvania 19103; the Air and Radiation Docket and Information Center, U.S. Environmental Protection Agency, 1301 Constitution Avenue, NW., Room B108, Washington, DC 20460; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION:

I. Background

The SIP is a living document which the state can revise as necessary to address the unique air pollution problems in the State. Therefore, EPA from time to time must take action on SIP revisions containing new and/or revised regulations as being part of the SIP. On May 22, 1997 (62 FR 27968), EPA revised the procedures for incorporating by reference Federally-approved SIPs, as a result of consultations between EPA and Office of the Federal Register (OFR). The description of the revised SIP document, IBR procedures and “Identification of plan” format are discussed in further detail in the May 22, 1997 Federal Register document. On December 7, 1998, (63 FR 67407) EPA published a document in the Federal Register beginning the new IBR procedure for the District of Columbia. On August 6, 2004 (69 FR 47773) and September 6, 2005 (70 FR 52919), EPA published updates to the IBR material for the District of Columbia.

II. EPA Action

In this action, EPA is doing the following:

1. Announcing the update to the IBR material as of December 1, 2008.

2. Making corrections to text in the “Title/subject” column to the following entries listed in the § 52.470(c) table: Section 702; Section 703.2, 703.3; Section 703.1, 703.4 through 703.7; Section 705.1 through 705.3, and Section 705.4 through 14.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect chart entries.

III. Statutory and Executive Order Reviews

A. General Requirements

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the District of Columbia SIP compilations had previously afforded interested parties the opportunity to file a petition for judicial review in the United States Court of Appeals for the appropriate circuit within 60 days of such rulemaking action. Thus, EPA sees no need in this action to reopen the 60-day period for filing such petitions for judicial review for this “Identification of plan” update action for the District of Columbia.

List of Subjects in 40 CFR Part 52

Environmental protection, Air pollution control, Carbon monoxide, Incorporation by reference, Intergovernmental relations, Lead, Nitrogen dioxide, Ozone, Particulate matter, Reporting and record keeping requirements, Sulfur oxides, Volatile organic compounds.

Dated: February 2, 2009
William T. Wisniewski,
Acting Regional Administrator, Region III.

40 CFR part 52 is amended as follows:

PART 52—[AMENDED]

1. The authority for citation for part 52 continues to read as follows:

Authority: 42.U.S.C. 7401 et seq.

Subpart J—District of Columbia

2. Section 52.470 is amended by revising paragraphs (b) and (c) to read as follows:

§ 52.470 Identification of plan.

* * * * *

(b) Incorporation by reference. (1) Material listed as incorporated by reference in paragraphs (c) and (d) was approved for incorporation by reference by the Director of the Federal Register in accordance with 5 U.S.C. 552(a) and 1 CFR part 51. The material incorporated is as it exists on the date of the approval, and notice of any change in the material will be published in the Federal Register. Entries in paragraphs (c) and (d) of this section with EPA approval dates on or after December 1, 2008 will be incorporated by reference in the next update to the SIP compilation.

(2) EPA Region III certifies that the rules/regulations and source-specific requirements provided by EPA at the addresses in paragraph (b)(3) of this section are an exact duplicate of the officially promulgated State rules/regulations and source-specific requirements which have been approved as part of the State implementation plan as of December 1, 2008.

(3) Copies of the materials incorporated by reference may be inspected at the EPA Region III Office at 1650 Arch Street, Philadelphia, PA 19103. For further information, call (215) 814-2108; the EPA, Air and Radiation Docket and Information Center, Room Number 3334, EPA West Building, 1301Constitution Avenue NW., Washington, DC 20460. For further information, call (202) 566-1742; or at the National Archives and Records Administration (NARA). For information on the availability of this material at NARA, call 202-741-6030, or go to: http://www.archives.gov/federal_register/code_of_federal_regulations/ibr_locations.html.

(c) EPA-approved regulations.

EPA-Approved District of Columbia Regulations
State citation | Title/subject | State effective date | EPA approval date | Additional explanation
District of Columbia Municipal Regulations (DCMR), Title 20—Environment
Chapter 1 General
Section 100 | Purpose, Scope and Construction | 3/15/85 | 8/28/95, 60 FR 44431
Section 101 | Inspection | 3/15/85 | 8/28/95, 60 FR 44431
Section 102 | Orders for Compliance | 3/15/85 | 8/28/95, 60 FR 44431
Section 104 | Hearings | 3/15/85 | 8/28/95, 60 FR 44431
Section 105 | Penalty | 3/15/85 | 8/28/95, 60 FR 44431
Section 106 | Confidentiality of Reports | 3/15/85 | 8/28/95, 60 FR 44431
Section 107 | Control Devices or Practices | 3/15/85 | 8/28/95, 60 FR 44431
Section 199 | Definitions and Abbreviations | 4/29/97 | 7/31/97, 62 FR 40937
Section 199 | Definitions and Abbreviations | 4/29/97 | 12/7/99, 62 FR 68293 | Definitions of the terms Actual emissions, allowable emissions, begin actual construction, commence, complete, major modification, necessary preconstruction approvals or permits, net emissions increase, new source, potential to emit, shutdown, and significant.
Section 199 | Definitions and Abbreviations | 12/8/00 | 5/9/01, 66 FR 23614 | Definition of “carrier”.
Section 199 | Definitions and Abbreviations | 4/16/04 | 12/28/04, 69 FR 77647 | Revised Definition of Major Stationary Source.
Section 8-2: 702 | Definitions; Definition of “stack” | 7/7/72 | 9/22/72, 37 FR 19806
Section 8-2: 724 | Variances | 7/7/72 | 9/22/72, 37 FR 19806
Chapter 2 General and Non-attainment Area Permits
Section 200 | General Permit Requirements | 4/29/97 | 7/31/97, 62 FR 40937
Section 201 | General Requirements for Permit Issuance | 4/29/97 | 7/31/97, 62 FR 40937
Section 202 | Modification, Revocation and Termination of Permits | 4/29/97 | 7/31/97, 62 FR 40937
Section 204 | Permit Requirements for Sources Affecting Nonattainment Areas | 4/16/04 | 12/28/04, 69 FR 77647 | Revised Paragraph 204.4.
Section 206 | Notice and Comment Prior To Permit Issuance | 4/29/97 | 7/31/97, 62 FR 40937
Section 299 | Definitions and Abbreviations | 4/29/97 | 7/31/97, 62 FR 40937
Section 8-2:720(c) | Permits to Construct or Modify; Permits to Operate | 7/7/72 | 9/22/72, 37 FR 19806 | Requirement for Operating Permit.
Chapter 3 Operating Permits
Section 307 | Enforcement for Severe Ozone Nonattainment Areas | 4/16/04 | 12/28/04, 69 FR 77639 | Provision allowing for the District to collect penalty fees from major stationary sources if the nonattainment area does not attain the ozone standard by the statutory attainment date.
Chapter 4 Ambient Monitoring, Emergency Procedures, Chemical Accident Prevention and Conformity
Section 400 | Air Pollution Reporting Index | 3/15/85 | 8/28/95, 60 FR 44431
Section 401 | Emergency Procedures | 3/15/85 | 8/28/95, 60 FR 44431
Section 403 | Determining Conformity of Federal Actions to State or Federal Implementation Plans | 11/6/98 | 6/5/03, 68 FR 33638
Section 499 | Definitions and Abbreviations | 3/15/85 | 8/28/95, 60 FR 44431
Chapter 5 Source Monitoring and Testing
Sections 500.1 through 500.3 | Records and Reports | 3/15/85 | 8/28/95, 60 FR 44431
Sections 500.4, 500.5 | Records and Reports | 9/30/93 | 1/26/95, 60 FR 5134
Section 500.6 | Records and Reports | 9/30/93 | 10/27/99, 64 FR 57777
Section 500.7 | Records and Reports—Emission Statements | 9/30/93 | 5/26/95, 60 FR 27944
Section 501 | Monitoring Devices | 3/15/85 | 8/28/95, 60 FR 44431
Sections 502.1 through 502.15 | Sampling, Tests and Measurements | 3/15/85 | 8/28/95, 60 FR 44431 | Exceptions: Paragraphs 502.11, 502.12 and 502.14 are not part of the SIP.
Section 502.17 | Sampling Tests, and Measurements | 09/30/93 | 10/27/99, 64 FR 57777
Section 502.18 | Sampling, Tests and Measurements | 12/8/00 | 5/9/01, 66 FR 23614
Section 599 | Definitions and Abbreviations | 9/30/93 | 10/27/99, 64 FR 57777
Chapter 6 Particulates
Section 600 | Fuel-Burning Particulate Emissions | 4/16/04 | 12/28/04, 69 FR 77645 | Revision to paragraph 600.1.
Section 601 | Rotary Cup Burners | 3/15/85 | 8/28/95, 60 FR 44431
Section 602 | Incinerators | 3/15/85 | 8/28/95, 60 FR 44431
Section 603 | Particulate Process Emissions | 3/15/85 | 8/28/95, 60 FR 44431
Section 604 | Open Burning | 3/15/85 | 8/28/95, 60 FR 44431
Section 605 | Control of Fugitive Dust | 3/15/85 | 8/28/95, 60 FR 44431
Section 606 | Visible Emissions | 3/15/85 | 8/28/95, 60 FR 44431
Section 699 | Definitions and Abbreviations | 3/15/85 | 8/28/95, 60 FR 44431
Chapter 7 Volatile Organic Compounds
Section 700 | Organic Solvents | 3/15/85 | 10/27/99, 64 FR 57777
Section 701.1 through 701.13 | Storage of Petroleum Products | 3/15/85 | 10/27/99, 64 FR 57777
Section 702 | Control of Volatile Organic Compound leaks from Petroleum Refinery Equipment | 3/15/85 | 10/27/99, 64 FR 57777
Section 703.2, 703.3 | Terminal Vapor Recovery—Gasoline or Volatile Organic Compound | 3/15/85 | 10/27/99, 64 FR 57777
Section 703.1, 703.4 through 703.7 | Terminal Vapor Recovery—Gasoline or Volatile Organic Compound | 9/30/93 | 10/27/99, 64 FR 57777
Section 704 | Stage I Vapor Recovery | 3/15/85 | 10/27/99, 64 FR 57777
Section 705.1 through 705.3 | Stage II Vapor Recovery | 9/30/93 | 10/27/99, 64 FR 57777
Section 705.4 through 705.14 | Stage II Vapor Recovery | 3/15/85 | 10/27/99, 64 FR 57777
Section 706 | Petroleum Dry Cleaners | 3/15/85 | 10/27/99, 64 FR 57777
Section 707 | Perchloroethylene Dry Cleaning | 3/15/85 | 10/27/99, 64 FR 57777
Section 708 | Solvent Cleaning (Degreasing) | 3/15/85 | 10/27/99, 64 FR 57777
Section 709 | Asphalt Operations | 3/15/85 | 10/27/99, 64 FR 57777
Section 710 | Engraving and Plate Printing | 3/15/85 | 8/4/92, 57 FR 34249
Section 711 | Pumps and Compressors | 3/15/85 | 10/27/99, 64 FR 57777
Section 712 | Waste Gas Disposal from Ethylene Producing Plant | 3/15/85 | 10/27/99, 64 FR 57777
Section 713 | Waste Gas Disposal from Vapor Blow-down Systems | 3/15/85 | 10/27/99, 64 FR 57777
Section 715 | Reasonably Available Control Technology | 4/16/04 | 12/28/04, 69 FR 77647 | Revised paragraphs 715.2, 715.3, and 715.4(b).
Section 716 | Offset Lithography | 10/2/98 | 10/27/99, 64 FR 57777
Section 718 | Mobile Equipment Repair and Refinishing | 11/26/04 | 12/23/05, 69 FR 76855
Section 719 | Consumer Products—General Requirements | 04/16/04, 11/26/04 | 12/28/04, 69 FR 77642
Section 720 | Consumer Products—VOC Standards | 04/16/04, 11/28/04 | 12/28/04, 69 FR 77642
Section 721 | Consumer Products—Exemptions from VOC Standards | 04/16/04, 11/28/04 | 12/28/04, 69 FR 77642
Section 722 | Consumer Products—Registered Under FIFRA | 04/16/04, 11/28/04 | 12/28/04, 69 FR 77642
Section 723 | Consumer Products—Products Requiring Dilution | 04/16/04, 11/28/04 | 12/28/04, 69 FR 77642
Section 724 | Consumer Products—Ozone Depleting Compounds | 04/16/04, 11/28/04 | 12/28/04, 69 FR 77642
Section 725 | Consumer Products—Aerosol Adhesives | 04/16/04, 11/28/04 | 12/28/04, 69 FR 77642
Section 726 | Consumer Products—Antiperspirants or Deodorants | 04/16/04, 11/28/04 | 12/28/04, 69 FR 77642
Section 727 | Consumer Products—Charcoal Lighter Materials | 04/16/04, 11/28/04 | 12/28/04, 69 FR 77642
Section 728 | Consumer Products—Floor Wax Strippers | 04/16/04, 11/28/04 | 12/28/04, 69 FR 77642
Section 729 | Consumer Products—Labeling of Contents | 04/16/04, 11/28/04 | 12/28/04, 69 FR 77642
Section 730 | Consumer Products—Reporting Requirements | 04/16/04, 11/28/04 | 12/28/04, 69 FR 77642
Section 731 | Consumer Products—Test Methods | 04/16/04, 11/28/04 | 12/28/04, 69 FR 77642
Section 732 | Consumer Products—Alternative Control Plans | 04/16/04, 11/28/04 | 12/28/04, 69 FR 77642
Section 733 | Consumer Products—Innovative Products Exemption | 04/16/04, 11/28/04 | 12/28/04, 69 FR 77642
Section 734 | Consumer Products—Variance Requests | 04/16/04, 11/28/04 | 12/28/04, 69 FR 77642
Section 735 | Portable Fuel Containers and Spouts—General Requirements | 4/16/04, 11/26/04 | 12/29/04, 69 FR 77903
Section 736 | Portable Fuel Containers and Spouts—Performance Standards | 4/16/04, 11/26/04 | 12/29/04, 69 FR 77903
Section 737 | Portable Fuel Containers and Spouts—Exemptions From Performance Standards | 4/16/04, 11/26/04 | 12/29/04, 69 FR 77903
Section 738 | Portable Fuel Containers and Spouts—Labeling Requirements | 4/16/04, 11/26/04 | 12/29/04, 69 FR 77903
Section 739 | Portable Fuel Containers and Spouts—Testing Procedures | 4/16/04, 11/26/04 | 12/29/04, 69 FR 77903
Section 740 | Portable Fuel Containers and Spouts—Innovative Product Exemption | 4/16/04, 11/26/04 | 12/29/04 69 FR 77903
Section 741 | Portable Fuel Containers and Spouts—Variance | 4/16/04, 11/26/04 | 12/29/04, 69 FR 77903
Section 742 | Solvent Cleaning—General Requirements | 4/16/04, 11/26/04 | 12/29/04, 69 FR 77906
Section 743 | Solvent Cleaning—Cold Cleaning | 4/16/04, 11/26/04 | 12/29/04, 69 FR 77906
Section 744 | Solvent Cleaning—Batch Vapor Cleaning | 4/16/04, 11/26/04 | 12/29/04, 69 FR 77906
Section 745 | Solvent Cleaning—In-Line Vapor Cleaning | 4/16/04, 11/26/04 | 12/29/04, 69 FR 77906
Section 746 | Solvent Cleaning—Airless and Air-Tight Cleaning | 4/16/04, 11/26/04 | 12/29/04, 69 FR 77906
Section 747 | Solvent Cleaning—Alternative Compliance | 4/16/04, 11/26/04 | 12/29/04, 69 FR 77906
Section 748 | Solvent Cleaning—Recordkeeping and Monitoring | 4/16/04, 11/26/04 | 12/29/04, 69 FR 77906
Section 749 | Architectural and Industrial Maintenance Coating—General Requirements | 04/16/04, 11/26/04 | 5/12/05, 70 FR 24959 | Correction FRN published 5/19/05 (70 FR 28988)
Section 750 | Architectural and Industrial Maintenance Coating—Standards | 04/16/04, 11/26/04 | 5/12/05, 70 FR 24959
Section 751 | Architectural and Industrial Maintenance Coating—Exemptions | 04/16/04, 11/26/04 | 5/12/05, 70 FR 24959
Section 752 | Architectural and Industrial Maintenance Coating—Labeling Requirement | 04/16/04, 11/26/04 | 5/12/05, 70 FR 24959
Section 753 | Architectural and Industrial Maintenance Coating—Reporting Requirements | 04/16/04, 11/26/04 | 5/12/05, 70 FR 24959
Section 754 | Architectural and Industrial Maintenance Coating—Testing Requirements | 04/16/04, 11/26/04 | 5/12/05, 70 FR 24959
Section 799 | Definitions and Abbreviations | 09/30/93 | 10/27/99, 64 FR 57777
|  | 11/26/04 | 12/23/04, 69 FR 76855 | Definitions related to Section 718.
|  | 4/16/04, 11/26/04 | 12/28/04, 69 FR 77642 | Definitions related to Sections 719 through 734.
|  | 4/16/04, 11/26/04 | 12/29/04, 69 FR 77903 | Definitions related to Sections 735 through 741.
|  | 4/16/04, 11/26/04 | 12/29/04, 69 FR 77906 | Definitions related to Sections 742 through 748.
|  | 04/16/04, 11/26/04 | 5/12/05, 70 FR 24959 | Definitions related to Sections 748 through 754. Correction FRN published 5/19/05 (70 FR) 28988.
Chapter 8 Asbestos, Sulfur and Nitrogen Oxides
Section 801 | Sulfur Content of Fuel Oils | 3/15/85 | 8/28/95, 60 FR 44431
Section 802 | Sulfur Content of Coal | 3/15/85 | 8/28/95, 60 FR 44431
Section 803 | Sulfur Process Emissions | 3/15/85 | 8/28/95, 60 FR 44431
Section 804 | Nitrogen Oxide Emissions | 3/15/85 | 8/28/95, 60 FR 44431
Section 805 | Reasonably Available Control Technology for Major Stationary Sources of Oxides of Nitrogen | 4/16/04 | 12/28/04, 69 FR 77645, 69 FR 77647 | Revised paragraphs 805.1(a), 805.1(a)(3) and (4), 805.1(b) and (c), 805.5(b) and (c), 805.6, and 805.7.
Section 899 | Definitions and Abbreviations | 3/15/85 | 8/28/95, 60 FR 44431
Chapter 9 Motor Vehicle Pollutants, Lead, Odors, and Nuisance Pollutants
Section 904 | Oxygenated Fuels | 7/25/97 | 5/9/01, 66 FR 23614 | Addition of subsection 904.3 to make the oxygenated gasoline program a CO contingency measure.
Section 915 | National Low Emissions Vehicle Program | 2/11/00 | 7/20/00, 65 FR 44981
Section 999 | Definitions and Abbreviations | 2/11/00 | 7/20/00, 65 FR 44981
Chapter 10 Nitrogen Oxides Emissions Budget Program
Section 1000 | Applicability | 12/8/00 | 12/22/00, 65 FR 80783
Section 1001 | General Provisions | 12/8/00 | 12/22/00, 65 FR 80783
Section 1002 | Allowance Allocation | 12/8/00 | 12/22/00, 65 FR 80783
Section 1003 | Permits | 12/8/00 | 12/22/00, 65 FR 80783
Section 1004 | Allowance Transfer and Use | 12/8/00 | 12/22/00, 65 FR 80783
Section 1005 | Allowance Banking | 12/8/00 | 12/22/00, 65 FR 80783
Section 1006 | NOX Allowance Tracking system | 12/8/00 | 12/22/00, 65 FR 80783
Section 1007 | Emission Monitoring | 12/8/00 | 12/22/00, 65 FR 80783
Section 1008 | Record Keeping | 12/8/00 | 12/22/00, 65 FR 80783
Section 1009 | Reporting | 12/8/00 | 12/22/00, 65 FR 80783
Section 1010 | End-of-Season Reconciliation | 12/8/00 | 12/22/00, 65 FR 80783
Section 1011 | Compliance Certification | 12/8/00 | 12/22/00, 65 FR 80783
Section 1012 | Penalties | 12/8/00 | 12/22/00, 65 FR 80783
Section 1013 | Program Audit | 12/8/00 | 12/22/00, 65 FR 80783
Section 1014 | NOX Budget Trading Program for State Implementation Plans | 5/1/01 | 11/1/01, 66 FR 55099
Section 1099 | Definitions and Abbreviations | 12/8/00 | 12/22/00, 65 FR 80783
Appendices
Appendix 1 | Emission Limits for Nitrogen Oxide | 3/15/85 | 8/28/95, 60 FR 44431
Appendix 2 | Table of Allowable Particulate Emissions from Process Sources | 3/15/85 | 8/28/95, 60 FR 44431
Appendix 3 | Graphic Arts Sources | 3/15/85 | 8/28/95, 60 FR 44431
Appendix 5 | Test Methods for Sources of Volatile Organic Compounds | 09/30/93 | 10/27/99, 64 FR 57777
District of Columbia Municipal Regulations (DCMR), Title 18—Vehicles and Traffic
Chapter 4 Motor Vehicle Title and Registration
Section 411 | Registration of Motor Vehicles: General Provisions | 10/10/86 | 6/11/99, 64 FR 31498
Section 412 | Refusal of Registration | 10/17/97 | 6/11/99, 64 FR 31498
Section 413 | Application for Registration | 9/16/83 | 6/11/99, 64 FR 31498
Section 429 | Enforcement of Registration and Reciprocity Requirements | 3/4/83 | 6/11/99, 64 FR 31498
Chapter 6 Inspection of Motor Vehicles
Section 600 | General Provisions | 4/23/82 | 6/11/99, 64 FR 31498
Section 602 | Inspection Stickers | 3/15/85 | 6/11/99, 64 FR 31498
Section 603 | Vehicle Inspection: Approved Vehicles | 6/29/74; Recodified 4/1/81 | 6/11/99, 64 FR 31498
Section 604 | Vehicle Inspection: Rejected Vehicles | 11/23/84 | 4/10/86, 51 FR 12322
Section 606 | Vehicle Inspection: Condemned Vehicles | 6/29/74; Recodified 4/1/81 | 6/11/99, 64 FR 31498
Section 607 | Placement of Inspection Stickers on Vehicles | 4/7/77; Recodified 4/1/81 | 6/11/99, 64 FR 31498
Section 608 | Lost, Mutilated or Detached Inspection Stickers | 6/30/72; Recodified 4/1/81 | 6/11/99, 64 FR 31498
Section 609 | Inspection of Non-Registered Motor Vehicles | 6/30/72; Recodified 4/1/81 | 6/11/99, 64 FR 31498
Section 617 | Inspector Certification | 7/22/94 | 6/11/99, 64 FR 31498
Section 618 | Automotive Emissions Repair Technician | 7/22/94 | 6/11/99, 64 FR 31498
Section 619 | Vehicle Emission Recall Compliance | 10/17/97 | 6/11/99, 64 FR 31498
Chapter 7 Motor Vehicle Equipment
Section 701 | Historic Motor Vehicles | 2/25/78; Recodified 4/1/81 | 6/11/99, 64 FR 31498
Section 750 | Exhaust Emission Systems | 4/26/77; Recodified 4/1/81 | 6/11/99, 64 FR 31498
Section 751 | Compliance with Exhaust Emission Standards | 7/22/94 | 6/11/99, 64 FR 31498
Section 752 | Maximum Allowable Levels of Exhaust Components | 10/17/97 | 6/11/99, 64 FR 31498
Section 753 | Inspection of Exhaust Emission Systems | 5/23/83 | 4/10/86, 51 FR 12322
Section 754 | Federal Transient Emissions Test: Testing Procedures | 7/22/94 | 6/11/99, 64 FR 31498
Section 755 | Federal Transient Emissions Test: Equipment | 7/22/94 | 6/11/99, 64 FR 31498
Section 756 | Federal Transient Emissions Test: Quality Assurance Procedures | 7/22/94 | 6/11/99, 64 FR 31498
Chapter 11 Motor Vehicle Offenses and Penalties
Section 1101 | Offenses Related to Title, Registration, and Identification Tags | 6/30/72; Recodified 4/1/81 | 6/11/99, 64 FR 31498
Section 1103 | Offenses Related to Inspection Stickers | 6/30/72; Recodified 4/1/81 | 6/11/99, 64 FR 31498
Section 1104 | False Statements, Alterations, Forgery, and Dishonored Checks | 11/29/91 | 6/11/99, 64 FR 31498
Section 1110 | Penalties for Violations | 11/29/91 | 6/11/99, 64 FR 31498
Chapter 26 Civil Fines for Moving and Non-Moving Violations
Section 2600.1 | Infraction: Inspection, Registration Certificate, Tags | 8/31/90 | 6/11/99, 64 FR 31498
Chapter 99 Definitions
Section 9901 | Definitions | 10/17/97 | 6/11/99, 64 FR 31498 | Definition of “Emission Recall Notice”.

* * * * *

[FR Doc. E9-5866 Filed 3-18-09; 8:45 am]

BILLING CODE 6560-50-P